COMMISSION ON CIVIL RIGHTS

Agenda and Notice of Public Meeting of the Iowa, Kansas, Missouri, Nebraska, and Oklahoma State Advisory Committees

Notice is hereby given, pursuant to the provisions of the rules and regulations of the U.S. Commission on Civil Rights, that a meeting of the Iowa, Kansas, Missouri, Nebraska, and Oklahoma Advisory Committees will convene at 1:30 p.m. (c.s.t.) and recess at 4:45 p.m. on Wednesday, May 26, 2004, and re-convene at 9 a.m. and adjourn at 4 p.m. on Thursday, May 27, 2004, at the Four Points by Sheraton, One East 45th Street, Kansas City, MO 64111. The purpose of the meeting is to discuss strategic planning for FY 2004-05 and conduct the “Midwest Civil Rights Listening Tour” briefing session.

Persons desiring additional information, or planning a presentation to the Committees should contact Farella Robinson, Civil Rights Analyst of the Central Regional Office, 913-551-1400 (TDD 913-551-1414). Hearing-impaired persons who will attend the meeting and require the services of a sign language interpreter should contact the Regional Office at least ten (10) working days before the schedule date of the meeting.

The meeting will be conducted pursuant to the provisions of the rules and regulations of the Commission.

Dated in Washington, DC, March 29, 2004.
Ivy L. Davis,
Chief, Regional Programs Coordination Unit.

[FR Doc. 04-8197 Filed 4-9-04; 8:45 am]

BILLING CODE 6335-01-P